DEPARTMENT OF DEFENSE

Department of the Army

Notice of Availability of a Novel Propellant Technology for Exclusive, Partially Exclusive or Non-exclusive Licenses

Correction

In notice document 03-31335 appearing on page 70784 in the issue of Friday, December 19, 2003, make the following correction:

In the first column, under “SUMMARY”, in the second to last line “10/398885” should read “10/389885”.

[FR Doc. C3-31335 Filed 1-7-04; 8:45 am]

BILLING CODE 1505-01-D

ENVIRONMENTAL PROTECTION AGENCY

40 CFR Parts 148, 261, 268, 271, and 302

[RCRA-2003-0001; SWH-FRL-7587-6]

RIN 2050-AD80

Hazardous Waste Management System; Identification and Listing of Hazardous Waste; Dyes and/or Pigments Production Wastes; Land Disposal Restrictions for Newly Identified Wastes; CERCLA Hazardous Substance Designation and Reportable Quantities; Designation of Five Chemicals as Appendix VIII Constituents; Addition of Five Chemicals to the Treatment Standards of F039 and the Universal Treatment Standards

Correction

In proposed rule document 03-28783 beginning on page 66164 in the issue of Tuesday, November 25, 2003, make the following corrections:

1. On page 66180, in Table III-1, in the “Chemical compond” column, the 18th entry, “3,3-'Dimethylbenzidine”, should read “3,3'-Dimethylbenzidine ”.

2. On page 66219, in the second column, in Footnote 68, in the third line, “informaiton” should read “information”.

Appendix VIII to Part 261 [Corrected]

3. On page 66227, in Appendix VIII to Part 261, the table is corrected in part:

Common name | Chemical abstracts name | Chemical abstracts No. | Hazardous waste No.
* * * * * * *
1,2-Phenylenediamine | 1,2-Benzenediamine | 95-54-5
* * * * * * *
1,3-Phenylenediamine | 1,3-Benzenediamine | 108-45-2
* * * * * * *

§ 268.40 [Corrected]

4. On page 66228, the table is corrected in part:

Treatment Standards for Hazardous Wastes
[Note: NA means not applicable]
Waste code | Waste description and treatment/regulatory subcategory ¹ | Regulated hazardous constituent: Common name | Regulated hazardous constituent: CAS ² No. | Wastewaters—concentration in mg/L ³, or technology code ⁴ | Nonwastewaters—concentration in mg/kg ⁵ unless noted as “mg/L TCLP”, or technology code
* * * * * * *
K181 | Nonwastewaters from the production of dyes and/or pigments (including nonwastewaters commingled at the point of generation with nonwastewaters from other processes) that, at the point of generation, contain mass loadings of any of the constituents identified in paragraph (c)(1) of this section that are equal to or greater than the corresponding paragraph (c)(1) levels, as determined on a calendar year basis | Aniline o-Anisidine (2-methoxyaniline) 4-Chloroaniline p-Cresidine 2,4-Dimethylaniline (2,4xylidine) 1,2-Phenylenediamine 1,3-Phenylenediamine Toluene-2,4-diamine | 65-53-3 90-04-0 106-47-8 120-71-8 95-68-1 95-54-5 108-45-2 95-80-7 | 0.81 0.010 0.46 0.010 0.010 CMBST; or CHOXD fb (BIODG or CARBN); or BIODG fb CARBN 0.010 0.020 | 14 0.66 16 0.66 0.66 CMBST 0.66 1.30
* * * * * * *

5. On page 66228, under Footnotes to Treatment Standard Table 268.40, remove footnotes six (6) and seven (7).

[FR Doc. C3-28783 Filed 1-7-04; 8:45 am]

BILLING CODE 1505-01-D

DEPARTMENT OF HEALTH AND HUMAN SERVICES

Food and Drug Administration

21 CFR Parts 201 and 610

[Docket No. 1980N-0208]

Biological Products; Bacterial Vaccines and Toxoids; Implementation of Efficacy Review

Correction

In rule document 03-32255 beginning on page 255 in the issue of Monday, January 5, 2004, make the following correction:

On page 255, in the first column, under the heading DATES, in the first and second lines, “January 4, 2003” should read “January 4, 2005”.

[FR Doc. C3-32255 Filed 1-6-04; 10:31 am]

BILLING CODE 1505-01-D